DEPARTMENT OF ENERGY

Federal Energy Regulatory Commission

[Docket No. ER00-1259-001, et al.]

Louisiana Generating LLC, et al.; Electric Rate and Corporate Filings

April 7, 2003.

The following filings have been made with the Commission. The filings are listed in ascending order within each docket classification.

1. Louisiana Generating LLC

[Docket No. ER00-1259-001]

Take notice that on April 1, 2003, Louisiana Generating LLC tendered for filing its triennial review in compliance with the Commission's Order in AmerGen Vermont LLC, Docket No. ER00-1030-000, 90 ¶ 61,307.

Comment Date: April 22, 2003.

2. Wisconsin Power & Light Company

[Docket No. ER02-977-002]

Take notice that on April 1, 2003, Wisconsin Power & Light Company tendered for filing a Refund Report in response to the Commission's Order dated January 16, 2003 in Docket No. ER02-977-000.

Wisconsin Power & Light Company states that a copy of this filing has been served upon the service list, including designated representatives of all affected customers, and the Public Service Commission of Wisconsin.

Comment Date: April 22, 2003.

3. ISO New England Inc.

[Docket No. ER02-2153-003]

Take notice that on April 1, 2003, ISO New England Inc. (ISO) submitted a compliance report in this proceeding.

ISO states that copies of said filing have been served upon all parties to this proceeding and the New England utility regulatory agencies, and electronically upon the New England Power Pool participants.

Comment Date: April 22, 2003.

4. Cleco Power LLC

[Docket No. ER03-685-000]

Take notice that on April 1, 2003, Cleco Power LLC tendered for filing a First Revised Service Agreement No. 66, under FERC Electric Tariff Original Volume No. 1. Cleco Power LLC states that the revisions reflect an assignment of customer obligations from Cleco Midstream Resources LLC to Columbian Chemicals Company as provided for in Section 12.2 of the Original Service Agreement No. 66, under FERC Electric Tariff Original Volume No. 1.

Comment Date: April 22, 2003.

5. Duquesne Light Company

[Docket No. ER03-686-000]

Take notice that on April 1, 2003, Duquesne Light Company (DLC) filed a Service Agreement with Rainbow Energy Marketing Corporation under DLC's Open Access Transmission Tariff (Tariff). DLC states that the Service Agreement adds Rainbow Energy Marketing Corporation as a customer under the Tariff. DLC requests an effective date of April 1, 2003 for the Service Agreement.

Comment Date: April 22, 2003.

6. PacifiCorp

[Docket No. ER03-687-000]

Take notice that on April 1, 2003, PacifiCorp, tendered for filing in accordance with 18 CFR part 35 of the Commission's Rules and Regulations, Long Term Service Agreement No. 37 under PacifiCorp's FERC Electric Tariff Third Revised Volume Number 12 as amended by letter agreement dated March 7, 2003.

PacificCorp states that copies of this filing were supplied to the Public Utility Commission of Oregon, Washington Utilities and Transportation Commission, Wyoming Public Service Commission, Bonneville Power Administration and Eugene Water & Electric Board.

Comment Date: April 22, 2003.

7. WPS Canada Generation, Inc.

[Docket No. ER03-689-000]

Take notice that on April 1, 2003, WPS Canada Generation, Inc. (WPS Canada), filed rate schedules for its Reactive Supply and Voltage Control from Generation Sources Services (Reactive Power Service) in order to obtain compensation for the Reactive Power Service that it provides to Maine Public Service Company (MPS) and the Northern Maine Independent System Administrator, Inc. to maintain the reliability of the MPS transmission system.

WPS Canada states that copies of the filing were served upon Maine Public Service Company, the Northern Maine Independent System Administrator, Inc., the Houlton Water Company, Eastern Maine Electric Cooperative, and Van Buren Light and Power District.

Comment Date: April 22, 2003.

8. Minnesota Power

[Docket No. ER03-691-000]

Take notice that on April 1, 2003, Minnesota Power tendered for filing an executed letter agreement dated February 26, 2003 amending and updating the pricing terms and conditions of the Network Integration Transmission Service Agreement between Minnesota Power and Great River Energy (GRE) under Minnesota Power's open access transmission tariff (OATT), Service Agreement No. 65 Transmission under FERC Electric Tariff, First Revised Volume No. 6, effective March 1, 2003.

Comment Date: April 22, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9233 Filed 4-14-03; 8:45 am]

BILLING CODE 6717-01-P